NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 14, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: records.mgt@nara.gov.

Fax: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Homeland Security, Transportation Security Administration (N1-560-04-16, 15 items, 13 temporary items). Files accumulated by the Office of Maritime and Land Security relating to organizational structure records. Also included are reference files concerning planning, personnel, employment, property management, and information technology and electronic copies of records created using electronic mail and word processing. Proposed for permanent retention are recordkeeping copies of rulemaking and regulations files.

2. Department of Homeland Security, United States Secret Service (N1-87-05-1, 9 items, 6 temporary items). Inputs and outputs for an electronic system containing investigative and criminal history information. Also included are electronic copies of records created using electronic mail and word processing. Master files, a public use version of the master files, and system documentation are proposed for permanent retention.

3. Department of Justice, Federal Bureau of Investigation (N1-65-05-1, 3 items 3 temporary items). Recordings of incoming calls to agency field office switchboards that contain no evidence of emergencies, threats, or criminal activity, and consent forms signed by switchboard employees. Recordings that are needed as evidence are retained in the appropriate investigative case file.

4. Department of Justice, Bureau of Prisons (N1-129-05-1, 9 items, 9 temporary items). Inputs, outputs, master files, and documentation associated with an electronic system used to track equipment, work orders, vehicle maintenance, security system maintenance, and related expenditures in Federal correctional institutions. Also included are electronic copies of records created using electronic mail and word processing.

5. Department of Justice, Bureau of Prisons (N1-129-05-2, 6 items, 5 temporary items). Criminal investigation case files relating to crimes that occur at agency facilities, except for files relating to the most serious crimes. Also included are videotapes and electronic copies of records created using electronic mail and word processing. Recordkeeping copies of case files relating to the most serious crimes, such as murder, rioting, escapes, and hostage taking, are proposed for permanent retention.

6. Department of Justice, Bureau of Prisons (N1-129-05-3, 2 items, 1 temporary item). Electronic copies of records created using electronic mail and word processing that are associated with facility design and construction project files. Recordkeeping copies of these files are proposed for permanent retention.

7. National Commission on Libraries and Information Science, Agency-wide (N1-220-04-13, 65 items, 51 temporary items). Agency program records, including such files as Commission meeting workbooks, records relating to arrangements for meetings, working files of individual commissioners, directors and staff, biographic resumes pertaining to commissioners and key staff members, calendars, administrative procedures manuals, and records relating to legislation tracked by the Commission. Also included are electronic copies of documents created using word processing and electronic mail. Proposed for permanent retention are recordkeeping copies of such records as Commission meeting minutes, press releases, correspondence accumulated by the chair, subject files, executive director reports, files on selected legislation, project files, and international program files.

Dated: November 23, 2004.
Michael J. Kurtz,
Assistant Archivist for Records Services—Washington, DC.

[FR Doc. 04-26376 Filed 11-29-04; 8:45 am]

BILLING CODE 7515-01-P